DEPARTMENT OF THE INTERIOR

National Park Service

Notice of Realty Action Proposed Exchange of Interest in Federally-Owned Lands for Privately-Owned Lands Both Within Warren County, VA

AGENCY: National Park Service, Interior.

ACTION: Notice of Realty Action for Proposed Land Exchange.

SUMMARY: The following described interests in federally-owned lands which were acquired by the National Park Service has been determined to be suitable for disposal by exchange. The authority for this exchange is Section 5(b) of the Land and Water Conservation Fund Act Amendments in Public Law 90-401, approved July 15, 1968, and Section 7(f) of the National Trails System Act, Public Law 90-543, as amended.

DATES: Comments on this proposed land exchange will be accepted through June 27, 2005.

ADDRESSES: Detailed information concerning this exchange including precise legal descriptions, Land Protection Plan, environmental analysis, and cultural reports, and Finding of No Significant Impact are available at the National Trails Land Resources Program Center, 1314 Edwin Miller Boulevard, P.O. Box 908, Martinsburg, West Virginia 25402. Comments may also be mailed to this address.

FOR FURTHER INFORMATION CONTACT: Judy L. Brumback, Chief, Acquisition Division, National Park Service, National Trails Land Resources Program Center, P.O. Box 908, Martinsburg, West Virginia 25402-0908. Phone: (304) 263-4943.

SUPPLEMENTARY INFORMATION: The selected interest in Federal land is within the boundaries of the Appalachian National Scenic Trail. The land has been surveyed for cultural resources and endangered and threatened species. These reports are available upon request.

The National Park Service will modify the restrictions that were placed on property described as Tract 420-41, as contained in the Quitclaim Deed from the United States of America to Raymond W. Behrens, recorded in Book 344, Page 499. This property is now owned by David A. Andrukonis, et ux. The modified restrictions to be granted to David A. Andrukonis, et ux., will be described as Tract 420-61. In exchange for the modified restrictions, David A. Andrukonis, et ux., will convey to the United States of America the deeded access road and any other rights they may have in Tract 420-25. The release of these rights by David A. Andrukonis, et ux., will be described as Tract 420-60.

Conveyance of the interest in land by the United States of America will be done by a Quitclaim Deed and will include easements terms outlining the modification of the terms.

In exchange for the interest described in previous paragraph, the United States of America will acquire the deeded access and any other rights in Tract 420-60. The Appalachian Trail footpath is located on this property. Acquisition of access and other rights owned by David A. Andrukonis, et ux., will provide additional protection for the footpath by protecting the resources.

This interest in land will be administered by the National Park Service as a part of the Appalachian National Scenic Trail upon completion of the exchange. This exchange of interests will provide permanent protection for the Appalachian Trail.

The interest to be acquired by the United States of America is described as follows: Tract 420-60, consisting of access and any other rights David A. Andrukonis, et ux., had in and over Tract 420-25.

Conveyance of the access and any other rights to the United States will be done by a General Warranty Deed.

The value of the interests to be exchanged was determined by a current fair market value appraisal. The parties have agreed to an equal value exchange.

Interested parties may submit written comments to the address listed in the ADDRESSES paragraph. Adverse comments will be evaluated and this action may be modified or vacated accordingly. In the absence of any action to modify or vacate, this realty action will become the final determination of the Department of Interior.

Pamela Underhill,
Park Manager, Appalachian National Scenic Trail.

[FR Doc. 05-9568 Filed 5-12-05; 8:45 am]

BILLING CODE 4312-52-P